ENVIRONMENTAL PROTECTION AGENCY

[OPPT-2005-0012; FRL-7712-5]

Endocrine Disruptor Methods Validation Advisory Committee (EDMVAC); Notice of Public Meeting; Correction

AGENCY: Environmental Protection Agency (EPA).

ACTION: Notice.

SUMMARY: EPA announced in the Federal Register of April 8, 2005, a meeting of the Endocrine Disruptor Methods Validation Advisory Committee (EDMVAC) on April 26-28, 2005, in Washington, DC. The document incorrectly listed the weekdays of the actual meeting. This document corrects that error.

DATES: The meeting will be held on Tuesday, April 26, 2005, from 12:30 p.m. to 5:30 p.m.; Wednesday, April 27, 2005, from 8:30 a.m. to 6:30 p.m.; and Thursday, April 28, 2005, from 8 a.m. to 12:15 p.m., eastern standard time.

ADDRESSES: The meeting will be held at RESOLVE, 1255 23rd St., NW., Suite 275, Washington, DC 20037.

FOR FURTHER INFORMATION CONTACT: Jane Smith, Designated Federal Official (DFO), Office of Science Coordination and Policy (7203M), Office of Prevention, Pesticides and Toxic Substances (OPPTS), Environmental Protection Agency, 1200 Pennsylvania Ave., NW., Washington, DC 20460-0001; telephone number: (202) 564-8476; fax number: (202) 564-8482; e-mail address: smith.jane-scott@epa.gov.

SUPPLEMENTARY INFORMATION:

I. General Information

A. Does this Action Apply to Me?

The Agency included in the April 8, 2005, Notice a list of those who may be potentially affected by the action. If you have any questions regarding the applicability of this action to a particular entity, consult the person listed under FOR FURTHER INFORMATION CONTACT.

B. How Can I Get Additional Information, Including Copies of this Document or Other Related Documents?

In addition to using EDOCKET (http://www.epa.gov/edocket/), you may access this Federal Register document electronically through the EPA Internet under the “Federal Register” listings at http://www.epa.gov/fedrgstr/.

A list of the EDMVAC members and meeting materials are available at http://www.epa.gov/scipoly/oscpendo/ and in the public docket.

II. What Does this Correction Do?

In the Federal Register of April 8, 2005 (70 FR 17995) (FRL-7708-9), EPA published a notice announcing a meeting of the Endocrine Disruptor Methods Validation Advisory Committee (EDMVAC) on April 26-28, 2005, in Washington, DC. The document incorrectly listed the weekdays of the actual meeting.

The document is corrected as follows:

On page 17995, third column, the first sentence under the “DATES” unit is corrected to read as follows:

“The meeting will be held on Tuesday, April 26, 2005, from 12:30 p.m. to 5:30 p.m.; Wednesday, April 27, 2005, from 8:30 a.m. to 6:30 p.m.; and Thursday, April 28, 2005, from 8 a.m. to 12:15 p.m., eastern standard time.”

List of Subjects

Environmental protection, Endocrine disruptors, Hazardous substances, Health, Safety.

Dated: April 15, 2005.
Larry Dorsey,
Acting Director, Office of Science Coordination and Policy.

[FR Doc. 05-7919 Filed 4-19-05; 8:45 am]

BILLING CODE 6560-50-S